DEPARTMENT OF HEALTH AND HUMAN SERVICES

Administration for Children and Families

Submission for OMB Review; Comment Request

Title: Court Improvement Program—New Grants.

OMB No.: 0970-0307.

Description: The President signed the Deficit Reduction Act of 2005 (DRA), Public Law 109-171, into law on February 8, 2006. The law authorizes and appropriates funds for two new grants under the Court Improvement Program in title IV-B, section 438, of the Social Security Act. The highest State court in a State with an approved title IV-E plan is eligible to apply for either or both of the new grants. The new grants are for the purposes of (1) Ensuring that the needs of children are met in a timely and complete manner through improved case tracking and analysis of child welfare cases, and (2) training judges, attorneys, and other legal personnel in child welfare cases and conducting cross-training with child welfare agency staff and contractors.

The DRA requires separate applications for these two new grants. The annual burden estimates below describe the estimated annual burden for the two new grants. The Administration for Children and Families (ACF) proposes to collect information from the States about their work under these grants (applications, program reports) by way of a Program Instruction that was issued on June 15, 2006. This Program Instruction described the programmatic and fiscal provisions and reporting requirements for each of the grants, specified the application submittal and approval procedures for the grants for fiscal years 2006 through 2010, and identified technical resources for use by State courts during the course of the grants. ACF will use the information received to ensure compliance with the DRA and provide training and technical assistance to the grantees.

Respondents: State courts.

Annual Burden Estimates:

Instrument | Number of respondents | Number of responses per respondent | Average burden huors per response | Total burden hours
Application | 52 | 2 | 40 | 4,160
Annual Program Report | 52 | 2 | 36 | 3,744

Estimated Total Annual Burden Hours: 7,904.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Karen_Y._Matsuoka@omb.eop.gov.

Dated: November 21, 2006.
Robert Sargis,
Reports Clearance Officer.

[FR Doc. 06-9440 Filed 11-28-06; 8:45 am]

BILLING CODE 4184-01-M